DEPARTMENT OF TRANSPORTATION

Office of the Secretary

Aviation Proceedings, Agreements Filed During the Week Ending March 17, 2000.

The following Agreements were filed with the Department of Transportation under the provisions of 49 U.S.C. 412 and 414. Answers may be filed within 21 days after the filing of the application.

Docket Number: OST-2000-7076.

Date Filed: March 15, 2000.

Parties: Members of the International Air Transport Association.

Subject: PTC COMP 0592 dated 14 March 2000, Mail Vote 071—Resolution 010x, General Increase Resolution between Japan and USA/US Territories, Intended effective date: 15 April 2000.

Docket Number: OST-2000-7084.

Date Filed: March 16, 2000.

Parties: Members of the International Air Transport Association.

Subject: PTC2 AFR 0077 dated 22 February 2000, PTC2 AFR 0080 dated 17 March 2000, (Adoption of Mail Vote 067), Mail Vote 067—Within Africa Expedited Resolutions, r-1—002ss, r-3—071ww, r-2—071fa, r-4—076k, Intended effective date: 1 April 2000.

Dorothy W. Walker,
Federal Register Liaison.

[FR Doc. 00-9636 Filed 4-17-00; 8:45 am]

BILLING CODE 4910-62-P